DEPARTMENT OF LABOR

Employment and Training Administration

[TA-W-57,277]

Hilltop Cedar, St. Maries, ID; Notice of Termination of Investigation

Pursuant to section 221 of the Trade Act of 1974, as amended, an investigation was initiated on June 1, 2005 in response to a workers petition filed by a company official on behalf of workers at Hilltop Cedar, St. Maries, Idaho.

The petitioner has requested that the petition be withdrawn. Consequently, the investigation has been terminated.

Signed at Washington, DC, this 8th day of July, 2005.
Richard Church,
Certifying Officer, Division of Trade Adjustment Assistance.

[FR Doc. E5-3842 Filed 7-19-05; 8:45 am]

BILLING CODE 4510-30-P